DEPARTMENT OF ENERGY

Federal Energy Regulatory Commission

[Docket No. RP00-149-001]

Sea Robin Pipeline Company; Notice of Filing Workpapers

February 14, 2000.

Take notice that on January 21, 2000, Sea Robin Pipeline Company (Sea Robin) filed with the Federal Energy Regulatory Commission workpapers in response to the Commission's request for certain information with respect to Sea Robin's Annual Flowthrough Crediting Mechanism Filing in Docket No. RP00-149-000. Sea Robin's workpapers include a spreadsheet supporting the derivation of the $72,008.48 balance in the annual flowthrough account.

Any person desiring to file comments on the additional information should file with the Federal Energy Regulatory Commission, 888 First Street, N.E., Washington, D.C. 20426, in accordance with Rule 211 of the Commission's Rules of Practice and Procedure. All such comments should be filed on of before February 22, 2000. Copies of this filing are on file with the Commission and are available for public inspection in the Public Reference Room. This filing may be viewed on the web at http://www.ferc.fed.us/online/rims.htm (please call (202) 208-2222 for assistance).

David P. Boergers,
Secretary.

[FR Doc. 00-3909 Filed 2-17-00; 8:45 am]

BILLING CODE 6717-01-M